ENVIRONMENTAL PROTECTION AGENCY

[ER-FRL-6630-2]

Environmental Impact Statements; Notice of Availability

Responsible Agency: Office of Federal Activities, General Information (202) 564-7167 or http://www.epa.gov/compliance/nepa/.

Weekly receipt of Environmental Impact Statements

Filed June 03, 2002, through June 07, 2002,

Pursuant to 40 CFR 1506.9.

EIS No. 020228, FINAL EIS, AFS, ID, Meadow Face Stewardship Pilot Project, Implementation, Nez Perce National Forest, Clearwater Ranger District, Idaho County, ID, Wait Period Ends: July 15, 2002, Contact: Darcy Pederson (208) 983-1963.

EIS No. 020229, DRAFT EIS, FHW, CA, Butte 70/149/99/191 Highway Improvement Project, Update State Route 149 to Four-Lane Expressway, From 70 North of Oroville to Route 99 South of Chico, Funding, Right-of-Way Acquisition, Endangered Species Act Section 7 and COE Section 404 Permit, Butte County, CA , Comment Period Ends: July 29, 2002, Contact: R. C. Slovensky (916) 498-5774.

EIS No. 020230, FINAL EIS, AFS, PA, Lewis Run Project, Management Strategies for Road Construction and Reconstruction, Timber Management Activities, Soil and Water Improvements, Wildlife Habitat Enhancements and Recreation Improvements, Implementation, Lewis Run Project Area, Bradford Ranger District, Allegheny National Forest, McKean County, PA, Wait Period Ends: July 15, 2002, Contact: Andrea Hille, Ext 129 (814) 362-4613.

EIS No. 020231, DRAFT EIS, COE, TX, North Padre Island Storm Damage Reduction and Environmental Restoration Project, Construction of a Channel between the Laguna Madre and the Gulf of Mexico across North Padre Island referred to as Packery Channel Project, Nueces County, IL , Comment Period Ends: July 29, 2002, Contact: Sam J. Watson (409) 766-3964.

EIS No. 020232, DRAFT EIS, FHW, WY, Wyoming Forest Highway 4 U.S. 212 (KP 39.5 to KP 69.4) the Beartooth Highway, A Portion Proposed for Reconstruction begins 7.l miles east of the Junction of WY-296 (Chief Joseph Highway) and Proceeds East for 18.6 miles to the Wyoming/Montana State Line, Park County, WY, Comment Period Ends: July 29, 2002, Contact: Richard J. Cushing (303) 716-2138. This document is available on the Internet at: http://www.cflhd.gov/projects/wy/beartooth/index.htm.

EIS No. 020233, DRAFT SUPPLEMENT, FHW, WA, Cross-Base Highway Project, Updated Information, Between I-I5 at the Thorne Lane Interchange and WA-7 at 176th Street South, Major Investment Study (MIS), COE Section 404 Permit, Pierce County, WA , Comment Period Ends: July 31, 2002, Contact: Steve Saxton (360) 753-9411.

EIS No. 020234, DRAFT EIS, FTA, TX, Northwest Corridor Light Rail Transit (LRT) Line to Farmers Branch and Carrollton, Construction and Operation, NPDES and COE Section 404 Permits, Dallas Area Rapid Transit, Dallas and Denton Counties, TX , Comment Period Ends: July 30, 2002, Contact: John Sweek (817) 975-0550.

Dated: June 11, 2002.
Joseph C. Montgomery,
Director, NEPA Compliance Division, Office of Federal Activities.

[FR Doc. 02-15093 Filed 6-13-02; 8:45 am]

BILLING CODE 6560-60-P